DEPARTMENT OF LABOR

Employment and Training Administration

[TA-W-42,194]

Jean Michael's Incorporated, Willingboro, NJ; Notice of Termination of Investigation

Pursuant to section 221 of the Trade Act of 1974, an investigation was initiated on September 30, 2002, on behalf of workers at Jean Michael's Inc., Willingboro, New Jersey.

An active certification covering the petitioning group of workers remains in effect (TA-W-41, 699). Consequently, further investigation in this case would serve no purpose, and the investigation has been terminated.

Signed in Washington, DC, this 4th day of December, 2002.
Elliott S. Kushner,
Certifying Officer, Division of Trade Adjustment Assistance.

[FR Doc. 02-32229 Filed 12-20-02; 8:45 am]

BILLING CODE 4510-30-P